DEPARTMENT OF THE INTERIOR

Bureau of Reclamation

Draft Environmental Impact Statement and Notice of Scoping Meeting for the Proposed 20-Year Extension of the 2005 Mendota Pool Exchange Agreements, California

AGENCY: Bureau of Reclamation, Interior.

ACTION: Notice of intent and scoping meeting.

SUMMARY: The Department of the Interior, Bureau of Reclamation proposes to prepare an Environmental Impact Statement (EIS) for the proposed 20-year extension (March 1, 2015 through February 28, 2034) of the existing 2005 Mendota Pool 10-year Exchange Agreements. The Mendota Pool 10-year Exchange Agreements that are currently in place span the years 2005 to 2014, and an extension of the agreements is necessary for Mendota Pool Group farmers to continue this exchange after 2014. The proposed extension would allow Mendota Pool Group farmers in the Mendota Pool area to continue to pump up to 26,250 acre-feet per year of groundwater of suitable quality into the Mendota Pool for exchange of up to 25,000 acre-feet per year Central Valley Project water delivered to the San Luis Canal for use by Mendota Pool Group farmers in the San Luis Canal service area of San Luis Water District and Westlands Water District when the existing agreements expire.

DATES: Written comments on the scope of the EIS should be mailed to Ms. Rain Healer at the address below by December 14, 2012.

A public scoping meeting will be held on November 27, 4:00-7:00 p.m., in Fresno, California.

ADDRESSES: Written comments on the scope of the EIS should be sent to Ms. Rain Healer, Bureau of Reclamation, 1243 N Street, SCC-431, Fresno, California 93720, or via email to rhealer@usbr.gov.

The public scoping meeting will be held at the Bureau of Reclamation's South-Central California Area Office, 1243 N Street, Fresno, California.

FOR FURTHER INFORMATION CONTACT: Ms. Rain Healer, Natural Resources Specialist, Bureau of Reclamation at the above address, via email at rhealer@usbr.gov or at 559-487-5196.

SUPPLEMENTARY INFORMATION: The Mendota Pool Group (MPG) is comprised of an unincorporated association of farmers that own approximately 50,000 acres of historically irrigated farmland in Westlands Water District and San Luis Water District. The MPG members have wells located near the Mendota Pool and in Farmers Water District. In 2004, Reclamation and the MPG completed a Final EIS for the 10-year program, and a Record of Decision (ROD) was issued March 30, 2005. The 2004 Final EIS evaluated impacts to groundwater levels, land subsidence, groundwater quality, surface water quality, sediment quality, biological resources, Central Valley Project operations, archeological and cultural resources, land use and traffic, air quality, noise, environmental justice, and socioeconomics. The primary adverse effect of the action was to increase the cumulative rate of groundwater degradation in wells west of the Mendota Pool, primarily MPG wells. Mitigation actions that addressed potential impacts of the exchange program were included in the EIS and incorporated into the exchange agreement. These mitigation actions include a baseline pumping program, design constraints, a monitoring program, and adaptive management, all of which would be continued or expanded upon with the proposed 20-year extension.

The objective of the proposed 20-year extension is to enable the MPG to maintain production on historically irrigated lands by obtaining sufficient good quality water at cost-effective prices to offset cutbacks in Central Valley Project deliveries. The action is not intended to increase the amount of water for farming activities but would continue to replace water allocated for other Central Valley Project purposes. This program would enable participants to:

• Replace water no longer available due to restrictions on water exports from the Delta.

• Deliver water to farms for an average cost that approximates the cost of contract water and does not exceed the costs of supplemental water on the open market.

• Maintain production on lands with long-term water supply contracts that have regularly produced agricultural commodities.

• Avoid or minimize, through incorporation of design constraints and management practices, impacts to environmental resources such as surface water, groundwater levels, land subsidence, groundwater quality and biological resources including sensitive species.

There are no known Indian Trust Asset or environmental justice issues associated with the proposed extension.

Special Assistance for Public Meetings

If special assistance is required to participate in the scoping meeting, please contact Ms. Rain Healer at 559-487-5196, or via email at rhealer@usbr.gov. A telephone device for the hearing impaired (TTY) is available at 800-735-2929.

Public Disclosure

Before including your address, phone number, email address, or other personal identifying information in your comment, you should be aware that your entire comment—including your personal identifying information—may be made publicly available at any time. While you can ask us in your comment to withhold your personal identifying information from public review, we cannot guarantee that we will be able to do so.

Dated: September 24, 2012.
Anastasia T. Leigh,
Regional Environmental Officer, Mid-Pacific Region.

[FR Doc. 2012-27556 Filed 11-9-12; 8:45 am]

BILLING CODE 4310-MN-P